DEPARTMENT OF ENERGY

Federal Energy Regulatory Commission

[Project No. 2738-049]

New York State Electric & Gas Corporation; Notice of Site Visit

May 18, 2001.

On May 31, 2001, the Office of Energy Projects staff will participate in a site visit to the area proposed for a change in land rights at the Kents Falls development of the Saranac River hydroelectric Project operated by New York State Electric & Gas Corporation, in Clinton County, New York. The inspection will begin at 9 a.m. at the Kents Falls hydroelectric plant located on Kents Falls Road in the Town of Schuyler Falls, New York.

All interested parties may attend the inspection. Those planning to attend must provide their own transportation. For further information, please contact the Commission's Office of External Affairs at (202) 208-0004.

Linwood A. Watson, Jr.,
Acting Secretary.

[FR Doc. 01-13097 Filed 5-23-01; 8:45 am]

BILLING CODE 6717-01-M